DEPARTMENT OF ENERGY

Office of Energy Efficiency and Renewable Energy

Proposed Agency Information Collection

AGENCY: Office of Energy Efficiency and Renewable Energy, U.S. Department of Energy.

ACTION: Submission for Office of Management and Budget (OMB) review; comment request.

SUMMARY: The Department of Energy (DOE) has submitted an information collection request to the OMB for reinstatement under the provisions of the Paperwork Reduction Act of 1995. A Federal Register Notice with a 60-Day comment solicitation period on this information collection was published on May 24, 2012, Vol. 77, No. 101, pg. 31000. The information collection requests a three-year approval of its Customer Electricity Data Access and Control Questionnaire, OMB Control Number 1910-5164. The proposed collection will gather and share information about customer access to electricity usage data. The information will be shared on the DOE-supported OpenEI Web site where consumers can learn about the access offered by their electricity provider to energy usage data. Visitors to the Web site will also be able to learn about measures they can take to use energy more efficiently and economically.

DATES: Comments regarding this collection must be received on or before March 18, 2013. If you anticipate that you will be submitting comments, but find it difficult to do so within the period of time allowed by this notice, please advise the OMB Desk Officer of your intention to make a submission as soon as possible. The Desk Officer may be telephoned at 202-395-4650.

ADDRESSES: Written comments should be sent to: DOE Desk Officer, Office of Information and Regulatory Affairs, Office of Management and Budget, New Executive Office Building, Room 10102, 735 17th Street NW., Washington, DC 20503, and to Jamie Vernon by fax at 202-586-9260, or by email at Jamie.Vernon@ee.doe.gov.

FOR FURTHER INFORMATION CONTACT: For information or to request a copy of the collection instrument contact: Jamie Vernon by fax at 202-586-9260, or by email at Jamie.Vernon@ee.doe.gov.

SUPPLEMENTARY INFORMATION: This information collection request contains: (1) OMB No.: 1910-5164; (2) Information Collection Request Title: Customer Electricity Data Access and Control Questionnaire; (3) Type of Request: Reinstatement; (4) Purpose: The U.S. Department of Energy (DOE) Office of Energy Efficiency and Renewable Energy (EERE) has developed and launched a new consumer-focused Web site (http://openei.org/utilityaccess) with the capability to map how and what electricity use data utilities provide to their customers. An online questionnaire device captures and publishes the necessary information as a series of web-based maps upon completion by electricity providers. Each electric utility has the opportunity to fill out a web-based questionnaire that will automatically generate the informational maps. Consumers can visit the maps and Web site to learn about data access offered by their utility and how to use energy more efficiently. Generation of such maps requires DOE to collect information from electricity providers about data access and sharing services offered to their customers. DOE is requesting a 3-year approval to continue to collect and report this information using an improved collection instrument. This information collection request may be relevant to electric utilities, energy management professionals and residential and commercial electricity customers; (5) Annual Estimated Number of Respondents: 3,261; (6) Annual Estimated Number of Total Responses: 3,261; (7) Annual Estimated Number of Burden Hours: 1087; (8) Annual Estimated Reporting and Recordkeeping Cost Burden: $0.

Statutory Authority: Section 13(b) of the Federal Energy Administration Act of 1974 (FEA Act), as amended, codified at 15 U.S.C. 772(b) and Section 1301 of the Energy Independence and Security Act of 2007 (EISA), as amended, codified at 42 U.S.C. 17381.

Issued in Washington, DC, on February 6, 2013.
Carla Frisch,
Acting Director of Policy and Analysis, Office of Energy Efficiency and Renewable Energy, U.S. Department of Energy.

[FR Doc. 2013-03438 Filed 2-13-13; 8:45 am]

BILLING CODE 6450-01-P